SECURITIES AND EXCHANGE COMMISSION

[File No. 500-1]

In the Matter of: The Alternative Energy Technology Center, Inc.; Order of Suspension of Trading

April 2, 2008.

It appears to the Securities and Exchange Commission that the public interest and the protection of investors require a suspension of trading in the securities of The Alternative Energy Technology Center, Inc. Questions have arisen concerning the company's reliance on Rule 504 of Regulation D of the Securities Act of 1933 in conducting a distribution of its securities, and the accuracy and adequacy of statements in the company's press releases regarding its rights to certain technology. The Alternative Energy Technology Center, Inc., a company that has made no public filings with the Commission, is quoted on the Pink Sheets under the ticker symbol AETE, and has recently been the subject of spam e-mail touting the company's shares.

The Commission is of the opinion that the public interest and the protection of the investors require a suspension of trading in securities of the above-listed company.

Therefore, it is ordered, pursuant to section 12(k) of the Securities Exchange Act of 1934, that trading in the above-listed company is suspended for the period from 9:30 a.m. EDT, April 2, 2008, through 11:59 p.m. EDT, on April 15, 2008.

By the Commission.
Nancy M. Morris,
Secretary.

[FR Doc. 08-1103 Filed 4-2-08; 10:16am]

BILLING CODE 8011-01-P